DEPARTMENT OF TRANSPORTATION

Maritime Administration

U.S. Merchant Marine Academy Advisory Council; Public Meeting

AGENCY: Maritime Administration, DOT

ACTION: Notice of public meeting.

SUMMARY: The U.S. Department of Transportation, Maritime Administration (MARAD) announces a meeting of the U.S. Merchant Marine Academy (USMMA) Advisory Council (Council). During the meeting, the USMMA leadership will provide an update on programs and priorities, including: governance, sexual assault and sexual harassment, academics, culture and diversity, and facilities and infrastructure.

DATES: March 7, 2024, from 9 a.m. to 12 p.m. EST.

Requests to submit written materials to be reviewed during the meeting must be received no later than February 23, 2024. Requests for accommodations for a disability must be received by February 29, 2024.

ADDRESSES: The meeting will be held through a virtual forum. Virtual meeting access information will be available on the USMMA Advisory Council web page and social media channels no later than March 1, 2024. General information about the Council is available on the MARAD web page at www.maritime.dot.gov/outreach/united-states-merchant-marine-academy-advisory-council.

FOR FURTHER INFORMATION CONTACT: The Council's Designated Federal Officer and Point of Contact, Mary Grice, 202-366-4264 or via email to USMMAAdvisoryCouncil@dot.gov.

SUPPLEMENTARY INFORMATION:

I. Background

The Council is established pursuant to 46 U.S.C. 51323. The Council operates in accordance with the provisions of the Federal Advisory Committee Act (FACA), as amended, 5 U.S.C. app. 2.

The objective and scope of the Council is to provide independent advice and recommendations to the Secretary of Transportation (Secretary) on matters relating to the U.S. Merchant Marine Academy (USMMA) including in the areas of curriculum development and training programs; diversity, equity, and inclusion; sexual assault prevention and response; infrastructure maintenance and redevelopment; midshipmen health and welfare; governance and administrative policies; and other matters.

II. Agenda

The agenda will be as follows:

1. Welcome and opening remarks

2. Updates by Academy leadership on priority programs

3. Public comment

4. Administrative items

III. Public Participation

This meeting is open to the public and will be held through a virtual forum. The U.S. Department of Transportation is committed to providing equal access to this meeting for all participants. If you need alternative formats or services because of a disability, such as sign language, interpretation, or other ancillary aids, please contact the person listed in the FOR FURTHER INFORMATION CONTACT section.

Any member of the public is permitted to file a written statement with the Council. Written statements should be sent to the Designated Federal Officer listed in the FOR FURTHER INFORMATION CONTACT section no later than February 23, 2024.

Only written statements will be considered by the Council; no member of the public will be allowed to present questions or speak during the meeting unless requested to do so by a member of the Council.

(Authority: 46 U.S.C. 51323; 5 U.S.C. 552b; 5 U.S.C. App. 2; 41 CFR parts 102-3.140 through 102-3.165)

By Order of the Maritime Administrator.
T. Mitchell Hudson, Jr.,
Secretary, Maritime Administration.

[FR Doc. 2024-03287 Filed 2-15-24; 8:45 am]

BILLING CODE 4910-81-P